NATIONAL ARCHIVES AND RECORDS ADMINISTRATION

36 CFR Part 1254

RIN 3095-AB01

Research Room Procedures; Correction

AGENCY: National Archives and Records Administration (NARA).

ACTION: Final rule; correction.

SUMMARY: NARA published in the Federal Register of February 22, 2002, a final rule revising its regulations on use of NARA research rooms to add a policy on use of public access personal computers (workstations) in the research rooms and clarifying researcher identification card issuance. We incorrectly stated that the researcher identification card is valid for one year instead of three years. This document corrects that error.

EFFECTIVE DATE: March 25, 2002.

FOR FURTHER INFORMATION CONTACT: Nancy Allard at telephone number 301-713-7360, ext. 226, or fax number 301-713-7270.

SUPPLEMENTARY INFORMATION: NARA published a final rule document in the Federal Register of February 22, 2002 (67 FR 8199) that revised 36 CFR 1254.6 to clarify that, in research rooms where the plastic researcher identification card is also used with the facility's security system, we will issue a plastic card to researchers who have a paper card from another NARA facility. The proposed rule published on September 7, 2001 (66 FR 46752) correctly stated that the researcher identification card is valid for three years. The final rule incorrectly stated a one-year period. NARA is considering revising the length of time a researcher identification card is valid; however, we will issue a proposed rule for public comment before changing the period.

In the document FR 02-4211 published on February 22, 2002 (67 FR 8199), make the following correction:

§ 1254.6 [Corrected]

1. On page 8200, in the second column, in § 1254.6, correct the fourth line of paragraph (a) of that section to read “valid for three years, and may be renewed”.

Dated: April 3, 2002.
Nancy Y. Allard,
Federal Register Liaison Officer.

[FR Doc. 02-8571 Filed 4-9-02; 8:45 am]

BILLING CODE 7515-01-P